DEPARTMENT OF ENERGY

Federal Energy Regulatory Commission

[Docket No. CP92-508-008]

National Fuel Gas Supply Corporation; Notice of Proposed Changes in FERC Gas Tariff

February 24, 2000.

Take notice that on February 18, 2000, National Fuel Gas Supply Corporation (Applicant) tendered for filing certain revised tariff sheets to its FERC Gas Tariff, First Revised Volume No. 2 to be effective March 19, 2000 and January 19, 1994.

Applicant states that the purpose of the filing is to reflect the cancellation of Rate Schedule X-44, a service that is no longer in effect. Applicant further states that it is also filing revised tariff sheets to update the Table of Contents in Volume No. 2 to correct typographical errors. Applicant indicates that copies of this filing were served upon its customers and interested state commissions.

Any questions regarding this filing should be directed to Mr. David W. Reitz, Assistant General Counsel for Applicant, 10 Lafayette Square, Buffalo, New York 14203 at (716) 857-7949.

Any person desiring to be heard or to protest this filing should file a motion to intervene or protest on or before March 6, 2000, with the Federal Energy Regulatory Commission, 888 First Street, N.E., Washington, D.C. 20426, in accordance with Sections 385.214 and 385.211 of the Commission's Rules and Regulations. Protests will be considered by the Commission in determining the appropriate action to be taken, but will not serve to make Protestants parties to the proceeding. Any person wishing to become a party must file a motion to intervene. Copies of this filing are on file with the Commission and are available for public inspection in the Public reference Room. This filing may also be viewed on the web at http://www.ferc.fed.us/online/rims.htm (please call (202) 208-2222 for assistance).

David P. Boergers,
Secretary.

[FR Doc. 00-4901 Filed 2-29-00; 8:45 am]

BILLING CODE 6717-01-M